ENVIRONMENTAL PROTECTION AGENCY

40 CFR Part 52

[MD124-3075; FRL-7043-2]

Approval and Promulgation of Air Quality Implementation Plans; Maryland; Volatile Organic Compound Control Requirements for Aerospace Coating Operations and Kraft Pulp Mills

AGENCY: Environmental Protection Agency (EPA).

ACTION: Proposed rule.

SUMMARY: EPA is proposing to approve State Implementation Plan (SIP) revisions submitted by the State of Maryland. These revisions establish reasonably available control technology (RACT) requirements to reduce emissions of volatile organic compounds (VOCs) from aerospace coating operations and kraft pulp mills. The intended effect of this action is to propose approval of two regulations to reduce VOC emissions from aerospace coating operations and kraft pulp mills. This action is being taken under the Clean Air Act.

DATES: Written comments must be received on or before September 24, 2001.

ADDRESSES: Written comments may be mailed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Maryland Department of the Environment, 2500 Broening Highway, Baltimore, Maryland.

FOR FURTHER INFORMATION CONTACT: Kristeen Gaffney, (215) 814-2092, or via e-mail at gaffney.kristeen@epamail.epa.gov. Please note that while questions may be posed via telephone and e-mail, formal comments must be submitted, in writing, as indicated in the ADDRESSES section of this document.

SUPPLEMENTARY INFORMATION:

I. Background

On July 2, 2001, the Maryland Department of Environment (MDE) requested that EPA parallel process the approval of two proposed or draft state regulations as SIP revisions. These regulations control VOC emissions from (1) aerospace coating operations and (2) kraft pulp mills. The draft regulations impose RACT requirements for the control of VOC emissions at affected installations. To expedite the approval of these regulations as revisions to the Maryland SIP, EPA is using the parallel rulemaking process to propose approval of Maryland's regulations concurrently with the State's own process and procedures for adopting these regulations.

Maryland is adopting and submitting these regulations pursuant to the RACT requirements of sections 182 and 184 of the Clean Air Act (the Act). Section 182(b)(2) of the Act requires states to implement RACT on all source categories for which EPA has issued a Control Techniques Guideline (CTG) document and for all “major” sources of VOCs located in moderate or above ozone nonattainment areas. Major VOC sources are those with the potential to emit at least 50 tons per year in moderate and serious areas and 25 tons per year in severe areas. In addition, section 184(b)(1)(B) of the Act requires states in the Ozone Transport Region (OTR) to require RACT on all sources in the state that have the potential to emit 50 tons per year or more of VOC. Because Maryland is in the OTR, the State is required to implement RACT regulations for all major sources statewide.

II. Description of Maryland's SIP Revisions and EPA's Evaluation

On July 2, 2001, the MDE submitted a request to EPA to parallel process two draft/proposed regulations as revisions to the SIP: (1) Revisions to COMAR 26.11.19.13-1 for the control of VOC emissions from aerospace coatings operations; and (2) revisions to COMAR 26.11.14.06 to control of VOCs from kraft pulp mills. Both of these regulations apply statewide.

A. Aerospace Coating Operations

Summary of the State Regulation

COMAR 26.11.19.13-1 establishes RACT standards to control VOC emissions from aerospace coating operations statewide that emit 20 pounds or more of VOCs per day. The coating application and cleaning processes are the significant sources of VOC emissions from aerospace facilities. Maryland's regulation establishes maximum allowable VOC contents for generally used topcoats, primers and chemical milling maskants as well as for 57 types of specialty coatings used specifically in the aerospace industry. In addition to VOC content limits, facilities subject to this regulation must comply with good maintenance and cleanup requirements that include: (1) Storing all VOC containing waste materials in closed containers; (2) maintaining lids on containers of surface preparation and cleanup materials when not in use; and (3) using enclosed containers or VOC recycling equipment to clean spray gun equipment.

Under Maryland's regulation, subject facilities are required to use the testing and compliance methods and coating averaging procedures specified in 40 CFR part 63, subpart GG, “National Emissions Standards for Aerospace Manufacturing and Rework Facilities”. Specifically, affected facilities are subject to methods of compliance for VOC content limits found in subsections 63.745(a)-(e), 63.747(a)-(e) and 63.750, as applicable, and which are incorporated by reference into COMAR 26.11.19.13-1. Subject facilities are required to keep monthly records that contain the description, volume, total weight and VOC content of each coating used. Records must be maintained for three years and made available to the State upon request.

EPA's Evaluation

In September 1999, EPA adopted 40 CFR part 63, subpart GG, National Emission Standards for Aerospace Manufacturing and Rework Facilities (Aerospace NESHAP). The Aerospace NESHAP requires existing and new major source aerospace facilities to control emissions of hazardous air pollutants, many of which are also VOCs, to the level achievable through maximum achievable control technology (MACT) consistent with section 112(d) of the Act. The control techniques required by the Aerospace NESHAP result in reductions of VOC emissions.

Additionally, in December 1997, EPA issued a Control Technique Guideline (CTG) document, “Control of Volatile Organic Compound Emissions from Coating Operations at Aerospace Manufacturing and Rework Operations' to provide guidance to the states in determining VOC RACT for the aerospace industry. The Aerospace CTG establishes EPA's recommended level of presumptive RACT for the control of VOC emissions from primer, topcoat and specialty coatings applications, maskant application, sealing and cleaning operations. The CTG does not recommend add-on emissions control devices as RACT for the aerospace coatings industry. According to the Aerospace CTG, the principal technique used by the aerospace industry to control VOC emissions from coating applications and cleaning is product substitution. VOC emissions are controlled when products containing high concentrations of VOC are replaced with those having reduced or eliminated VOC. The CTG describes available product substitutions for coatings and cleaning solvents. Presumptive RACT for coatings used on aerospace components and vehicles are based on VOC content. The Aerospace NESHAP sets limits for maximum HAP and VOC content for topcoats, primers, maskants, clean-up solvents and cleaning operations and the CTG recommends these same content limits as presumptive RACT limits for VOCs. Furthermore, the CTG recommends VOC content limits for 57 specialty coatings, which are not covered in the Aerospace NESHAP. The Aerospace NESHAP specifies detailed requirements for monitoring, testing, record keeping and reporting.

Maryland's aerospace regulation reflects the appropriate combination of the Aerospace NESHAP and the Aerospace CTG. The VOC coating content limits in Maryland's regulation for topcoats, primers and maskants are the same as those in the Aerospace NESHAP. Maryland's regulation also adopts the VOC content limit for the 57 specialty coatings recommended in the Aerospace CTG. The complete list of VOC content limits for all coating categories are shown below. Maryland's regulation contains definitions for each coating type with a specified limit. The allowable VOC content is expressed in both pounds per gallon and grams per liter of coating applied minus water.

Coating type | Pounds/gallon (grams/liter)
Topcoats | 3.5 (420)
Self-priming topcoat | 3.5 (420)
Primers | 2.9 (350)
Chemical Milling Maskants | 1.3 (160)
Exterior primer for large commercial aircraft | 5.4 (650)
Primer for general aviation rework facilities | 4.5 (540)
Specialty Coatings:
Ablative Coating | 5.0 (600)
Adhesion Promotor | 7.42 (890)
Adhesive Bonding Primers:
(Cured at 250 degrees F or below) | 7.09 (850)
(Cured above 250 degrees F) | 8.59 (1030)
Antichafe Coating | 5.50 (660)
Bearing Coating | 5.17 (620)
Bonding Maskant | 10.26 (1,230)
Caulking and Smoothing Compounds | 7.09 (850)
Chemical Agent-Resistant Coating | 4.58 (550)
Clear Coating | 6.00 (720)
Commercial Exterior Aerodynamic Structure Primer | 5.42 (650)
Commercial Interior Adhesive | 6.34 (760)
Compatible Substrate Primer | 6.50 (780)
Corrosion Prevention Compound | 5.92 (710)
Critical Use and Line Sealer Maskant | 8.51 (1,020)
Cryogenic Flexible Primer | 5.38 (645)
Cryoprotective Coating | 5.00 (600)
Cyanoacrylate Adhesive | 8.51 (1,020)
Dry Lubricative Material | 7.34 (880)
Electric or Radiation-Effect Coating | 6.67 (800)
Electrostatic Discharge and Electromagnetic Interference (EMI) Coating | 6.67 (800)
Elevated-Temperature Skydrol-Resistant Commercial Primer | 6.17 (740)
Epoxy Polyamide Topcoat | 5.50 (660)
Fire-Resistant (interior) Coating | 6.67 (800)
Flexible Primer | 5.34 (640)
Flight-Test Coatings Missile or Single Use Aircraft | 3.50 (420)
Flight-Test Coatings All Other | 7.0 (840)
Fuel Tank Adhesive | 5.17 (620)
Fuel Tank Coating | 6.00 (720)
High-Temperature Coating | 7.09 (850)
Insulation Covering | 6.17 (740)
Intermediate Release Coating | 6.25 (750)
Lacquer | 6.9 (830)
Metallized Epoxy Coating | 6.17 (740)
Mold Release | 6.50 (780)
Nonstructural Adhesive | 3.00 (360)
Optical Antireflective Coating | 6.25 (750)
Part Marking Coating | 7.09 (850)
Pretreatment Coating | 6.50 (780)
Rain Erosion-Resistant Coating | 7.09 (850)
Rocket Motor Bonding Adhesive | 7.42 (890)
Rocket Motor Nozzle Coating | 5.50 (660)
Rubber-Based Adhesive | 7.09 (850)
Scale Inhibitor | 7.34 (880)
Screen Print Ink | 7.00 (840)
Extrudable/Rollable/Brushable Sealants | 2.33 (280)
Sprayable Sealant | 5.0 (600)
Seal Coat Maskant | 10.26 (1,230)
Silicone Insulation Material | 7.09 (850)
Solid Film Lubricant | 7.34 (880)
Specialized Function Coating | 7.42 (890)
Structural Autoclavable Adhesive | 0.50 (60)
Structural Nonautoclavable Adhesive | 7.09 (850)
Temporary Protective Coating | 2.67 (320)
Thermal Control Coating | 6.67 (800)
Wet Fastener Installation Coating | 5.63 (675)
Wing Coating | 7.09 (850)

The Aerospace CTG also recommends good work practices and low VOC cleaning solvent composition to reduce emissions from solvent cleaning operations at aerospace facilities. Maryland's regulation contains adequate requirements to control fugitive VOC emissions associated with cleaning operations. For compliance (testing and monitoring), Maryland's regulation incorporates by reference the testing and compliance methods for VOCs in the Aerospace NESHAP. Maryland's regulation incorporates by reference the test methods and procedures for primers, topcoats and maskants found in 40 CFR 63.745, 63.747 and 63.750. Maryland's rule also requires all facilities subject to the rule to maintain monthly records containing a description and the volume of each coating, the total weight and the VOC content of each coating used. Subject facilities must retain records for not less than three years and provide them to the Department upon request. Maryland's regulation contains adequate testing and record keeping requirements to determine compliance with the regulation.

Maryland's proposed/draft regulation for the control of VOC emissions at aerospace coating operations (COMAR 26.11.19.13-1) meets the requirements of the Act and EPA guidance for implementing VOC RACT at aerospace coating installations and will result in the reduction of VOC emissions from the affected sources. EPA believes that the VOC control requirements of COMAR 26.11.19.13-1 constitute an acceptable level of RACT for aerospace coating operations.

B. Control of VOCs From Kraft Pulp Mills

Summary of the State Regulation

COMAR 26.11.14 is being expanded to add a new subsection 26.11.14.06 for the control of VOC emissions from kraft pulp mills. Existing sections of COMAR 26.11.14.01-.05 pertain to control requirements for total reduced sulfur compounds. Sections 26.11.14.03-.05 are specific control requirements for total sulfur compounds. These sections are not part of Maryland's SIP revision request. Only the sections of COMAR 26.11.14 that pertain to the control of VOC emissions, specifically sections 26.11.26.14.01, .02 and .06 are being requested for approval as revisions to the SIP. Section 26.11.14.01 contains definitions and section 26.11.14.02 covers applicability. New section 26.11.14.06 establishes RACT standards to control VOC emissions from kraft pulp mill operations statewide that have actual emissions of 20 pounds or more of VOCs per day and the potential to emit total plant-wide VOC emissions of 25 tons or more per year.

Kraft pulp mills are facilities that use an alkaline sulfide solution containing sodium hydroxide and sodium sulfide for a cooking liquor in the wood pulping process. Maryland's regulation includes definitions for pulping processes and emissions streams, including definitions for: brown stock washers, black liquor, clean condensates, combusted, condensate, condensate steam stripper, digester, digester blow tank system, evaporator, foul condensates, knotters, recovery boiler and smelt dissolving tank. The VOC emissions emanate from the pulp, cooking liquors, condensates and non-condensable gases. The VOC emission sources at the facility include the digesters, washers, screen rooms, storage tanks, sewer vents, bleach rooms, black liquor oxidizer, recovery boilers and paper machines.

Requirements to control VOC emissions are as follows. Condensates from the digester blow tank system and evaporators are to be treated in a condensate steam stripper or other control system with a 90 percent control efficiency. Condensates from the steam stripper and non-condensable exhaust gases from the digester blow tank system and evaporator shall be collected and combusted in the boiler. Wash water for the brown stock washers and smelt dissolving tanks must use either fresh or clean water and/or clean condensates. A black liquor oxidation unit is required on the recovery boiler and at least 50 percent of the flue gas generated annually from the recovery boiler must be treated with a dry bottom precipitator with a salt cake mix tank. Fugitive VOC emissions from other miscellaneous processes at the installation will be controlled by processing pulp from the brown stock washers using clean condensates and fresh/clean wash water.

Annual tests are required to demonstrate the VOC removal efficiency of the condensate steam stripper using EPA Test Method 25D found in 40 CFR part 60. Other EPA approved VOC test methods 25, 25A or 25B shall be used to test other VOC emission streams. Installations are required to submit a test protocol to MDE for approval. Test results must be submitted to MDE within 60 days and retained for at least 5 years.

EPA Evaluation

EPA has not issued a CTG on RACT for VOC emissions generated from kraft pulp mills. Maryland's regulation includes control requirements to reduce VOC emissions from specific processes including the digester blow tank system and brown stock washers, which requires the installation and use of a condensate steam stripper to remove and destroy condensates with a control efficiency of 90 percent. The VOC emissions from other processes at the facility will be controlled by requiring the use of only clean wash water which will reduce fugitive emissions throughout the entire facility. Other VOC emission streams, including noncondensable gases not stripped in the steam stripper, are collected and vented to the facilities combustion boilers for destruction. Maryland's regulation results in an estimated 50 percent reduction in VOC emissions from several process points throughout the facility. EPA believes the VOC control requirements of COMAR 26.11.14.06 are reasonable and constitute and acceptable level of RACT for kraft pulp mill facilities. The regulation also contains adequate methods for determining compliance including EPA recommended test methods and record keeping requirements.

EPA's review of this material indicates Maryland's regulations for the control of VOC emissions at aerospace coating operations and kraft pulp mills define an appropriate level of RACT, meet the requirements of sections 182 and 184 of the Clean Air Act and strengthen the Maryland SIP. EPA proposing to approve the Maryland SIP revisions for aerospace coating operations and kraft pulp mills, which were submitted on July 2, 2001.

III. Proposed Action

EPA is proposing to approve revisions submitted by the State of Maryland on July 2, 2001 pertaining to RACT requirements to reduce VOC from aerospace coating operations (COMAR 26.11.19.13-1) and kraft pulp mills (COMAR 26.11.14.01, .02 and .06). EPA is soliciting public comments on the issues discussed in this document or on other relevant matters. These comments will be considered before taking final action. Interested parties may participate in the Federal rulemaking procedure by submitting written comments to the EPA Regional office listed in the ADDRESSES section of this document. This revision is being proposed under a procedure called parallel processing, whereby EPA proposes rulemaking action concurrently with the state's procedures for amending its regulations. If the proposed revision is substantially changed, EPA will evaluate those changes and may publish another notice of proposed rulemaking. If no substantial changes are made, EPA will publish a Final Rulemaking Notice on the revisions. The final rulemaking action by EPA will occur only after the SIP revision has been adopted by Maryland and submitted formally to EPA for incorporation into the SIP.

IV. Administrative Requirements

Under Executive Order 12866 (58 FR 51735, October 4, 1993), this proposed action is not a “significant regulatory action” and therefore is not subject to review by the Office of Management and Budget. For this reason, this action is also not subject to Executive Order 13211, “Actions Concerning Regulations That Significantly Affect Energy Supply, Distribution, or Use” (66 FR 28355, May 22, 2001). This action merely proposes to approve state law as meeting Federal requirements and imposes no additional requirements beyond those imposed by state law. Accordingly, the Administrator certifies that this proposed rule will not have a significant economic impact on a substantial number of small entities under the Regulatory Flexibility Act (5 U.S.C. 601 et seq.). Because this rule proposes to approve pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely proposes to approve a state rule implementing a Federal standard, and does not alter the relationship or the distribution of power and responsibilities established in the Clean Air Act. This proposed rule also is not subject to Executive Order 13045 (62 FR 19885, April 23, 1997), because it is not economically significant. In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this proposed rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings” issued under the executive order. This proposed rule to approve RACT requirements to reduce VOC from aerospace coating operations and kraft pulp mills does not impose an information collection burden under the provisions of the Paperwork Reduction Act of 1995 (44 U.S.C. 3501 et seq.).

List of Subjects in 40 CFR Part 52

Environmental protection, Air pollution control, Hydrocarbons, Ozone, Reporting and record-keeping requirements.

Authority: 42 U.S.C. 7401 et seq.

Dated: August 17, 2001.
Donald S. Welsh,
Regional Administrator, Region III.

[FR Doc. 01-21435 Filed 8-23-01; 8:45 am]

BILLING CODE 6560-50-P